Title 3—

The President

Notice of February 13, 2020

Continuation of the National Emergency With Respect to the Southern Border of the United States

On February 15, 2019, by Proclamation 9844, I declared a national emergency concerning the southern border of the United States to deal with the border security and humanitarian crisis that threatens core national security interests.

The ongoing border security and humanitarian crisis at the southern border of the United States continues to threaten our national security, including the security of the American people. The executive branch has taken steps to address the crisis, but further action is needed to address the humanitarian crisis and to control unlawful migration and the flow of narcotics and criminals across the southern border of the United States.

For these reasons, the national emergency declared on February 15, 2019, and the measures adopted on that date to respond to that emergency, must continue in effect beyond February 15, 2020. Therefore, in accordance with section 202(d) of the National Emergencies Act (50 U.S.C. 1622(d)), I am continuing for 1 year the national emergency declared in Proclamation 9844 concerning the southern border of the United States.

This notice shall be published in the Federal Register and transmitted to the Congress.

THE WHITE HOUSE,

February 13, 2020.

[FR Doc. 2020-03212

Filed 2-13-20; 11:15 am]

Billing code 3295-F0-P